FEDERAL COMMUNICATIONS COMMISSION

47 CFR Part 73

[DA 05-1341; MB Docket No. 05-188; RM-11240]

Radio Broadcasting Services; Bass River Township and Ocean City, NJ

AGENCY: Federal Communications Commission.

ACTION: Proposed rule.

SUMMARY: This document requests comments on a petition for rule making filed by Press Communications, LLC (“Petitioner”), licensee of FM Station WKOE, Channel 292A, Ocean City, New Jersey. Petitioner requests that the Commission substitute 293A for Channel 292A, Station WKOE, and reallot Channel 293A from Ocean City to Bass River Township, New Jersey. The coordinates for Channel 293A at Bass River Township are 39-39-00 NL and 74-21-20 WL, with a site restriction of 10.4 kilometers (6.4 miles) northeast of Bass River Township.

DATES: Comments must be filed on or before July 11, 2005, and reply comments on or before July 26, 2005.

ADDRESSES: Secretary, Federal Communications Commission, 445 12th Street, SW., Room TW-A325, Washington, DC 20554. In addition to filing comments with the FCC, interested parties should serve Petitioner's counsel, as follows: Alan C. Campbell, Esq. and Nathaniel J. Hardy, Esq.; Irwin, Campbell & Tannanwald, P.C.; 1730 Rhode Island Avenue, NW., Suite 200; Washington, DC 20036-3101.

FOR FURTHER INFORMATION CONTACT: R. Barthen Gorman, Media Bureau, (202) 418-2180.

SUPPLEMENTARY INFORMATION: This is a synopsis of the Commission's Notice of Proposed Rule Making, MB Docket No. 05-188, adopted May 18, 2005 and released May 20, 2005. The full text of this Commission decision is available for inspection and copying during regular business hours in the FCC's Reference Information Center at Portals II, 445 12th Street, SW., CY-A257, Washington, DC, 20554. This document may also be purchased from the Commission's duplicating contractors, Best Copy and Printing, Inc., Portals II, 445 12th Street, SW., Room CY-B402, Washington, DC 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, and 336.

§ 73.202 [Amended]

2. Section 73.202(b), the Table of FM Allotments under New Jersey, is amended by adding Bass River Township, Channel 293A and by removing Channel 292A at Ocean City.

Federal Communications Commission.
John A. Karousos,
Assistant Chief, Audio Division, Media Bureau.

[FR Doc. 05-10863 Filed 5-31-05; 8:45 am]

BILLING CODE 6712-01-P